DEPARTMENT OF THE INTERIOR

National Indian Gaming Commission

Privacy Act of 1974; Notice of New System of Records

AGENCY: National Indian Gaming Commission, Department of the Interior.

ACTION: Notice of a new system of records.

SUMMARY: In accordance with the Privacy Act of 1974, the National Indian Gaming Commission (NIGC) is issuing notice of its intent to establish a new system of records entitled, “Payroll, Attendance, Retirement, and Leave Records—NIGC-3.” This system of records will allow the NIGC to manage human resources and payroll functions and will be included in the NIGC's inventory of record systems.

DATES: This new system will become effective upon publication, except for its routine uses, which will become effective April 10, 2023. Please submit any public comment pertaining to this notice on or before April 10, 2023.

ADDRESSES: You may submit comments by any of the following methods:

Mail: Privacy & Records Management Specialist, National Indian Gaming Commission, 1849 C Street NW, Mail Stop #1621, Washington DC 20240.

Email: privacy@nigc.gov.

Fax: 202-632-7066.

FOR FURTHER INFORMATION CONTACT: Tim Osumi, Senior Agency Official for Privacy, National Indian Gaming Commission, 1849 C Street NW, Mail Stop #1621, Washington DC 20240, tim.osumi@nigc.gov, 202-264-0676.

SUPPLEMENTARY INFORMATION: The NIGC is publishing this system of records notice for its employees' payroll and personnel related records that are hosted and/or processed by the Department of the Interior (DOI) Interior Business Center (IBC). The NIGC has entered into an agreement with the DOI IBC for such purpose. The DOI IBC is a Federal agency shared services provider that provides payroll and personnel processing services to internal and external customers, including other Federal agency customers, such as the NIGC. The IBC uses a system—the Federal Personnel and Payroll System (FPPS)—to perform these services. FPPS and its supporting systems manage payroll, time and attendance, and human capital management functions, meet regulatory requirements, and prepare reports to other Federal agencies. The NIGC payroll, attendance, retirement, and leave records described in this system of records notice form a part of the information contained in the FPPS. Associated personnel records also contained in the FPPS are covered under OPM/GOVT-1, General Personnel Records, a government-wide system of records notice published by the Office of Personnel Management.

Although DOI hosts and processes payroll and personnel transactions on behalf of the NIGC, the NIGC retains ownership and control over its own records and is responsible for meeting requirements under the Privacy Act for the collection, maintenance and sharing of its records. Individuals seeking access to, notification or correction of their records owned and maintained by the NIGC must submit their requests to the NIGC in accordance with this system of records notice.

SYSTEM NAME AND NUMBER:

Payroll, Attendance, Retirement, and Leave Records—NIGC-3.

SECURITY CLASSIFICATION:

Unclassified.

SYSTEM LOCATION:

This system is centrally-managed at NIGC headquarters, 90 K Street, Suite 200, Washington, DC 20002. Records are also located at other federal agency payroll service provider locations.

SYSTEM MANAGER:

HR Coordinator, National Indian Gaming Commission, 90K Street NE, Suite 200, Washington, DC 20002. Tel: 202-632-7003.

AUTHORITY FOR MAINTENANCE OF THE SYSTEM:

5 CFR part 293, subpart B, Personnel Records Subject to the Privacy Act; 5 CFR part 297, Privacy Procedures for Personnel Records; Executive Order 9397 as amended by Executive Order 13478, relating to Federal agency use of Social Security numbers; and 5 CFR part 515, NIGC Privacy Act Procedures.

PURPOSE(S) OF THE SYSTEM:

The primary purpose of the system is to manage personnel and payroll functions, to ensure proper payment for salary and benefits, track time and attendance, retirement, leave, and other absences for reporting and compliance purposes; and facilitate reporting requirements to other Federal agencies, for payroll and tax purposes.

CATEGORIES OF INDIVIDUALS COVERED BY THE SYSTEM:

Individuals covered by the system include current and former NIGC employees and applicants for Federal employment. This system may also include limited information regarding employee spouses, dependents, emergency contacts, beneficiaries, or estate trustees who meet the definition of “individual” as defined in the Privacy Act.

CATEGORIES OF RECORDS IN THE SYSTEM:

This system maintains records including:

Employee biographical and employment information: Employee name, other names used, citizenship, gender, date of birth, age, group affiliation, marital status, Social Security number (SSN), truncated SSN, legal status, place of birth, records related to position, occupation, duty location, security clearance, financial information, medical information, disability information, education information, driver's license, race, ethnicity, personal or work telephone number, personal or work email address, military status and service, home or mailing address, Taxpayer Identification Number (TIN), bank account information, professional licensing and credentials, family relationships, involuntary debt (garnishments or child support payments), employee common identifier (ECI), organization code, user identification and any other employment information.

Third-party information: Spouse information, emergency contact, beneficiary information, savings bond co-owner name(s) and information, and family members and dependents information.

Salary and benefits information: Salary data, retirement data, tax data, deductions, health benefits, allowances, insurance data, Flexible Spending Account, Thrift Savings Plan information and contributions, pay plan, payroll records, awards, court order information, back pay information, debts owed to the government as a result of overpayment, refunds owed, or a debt referred for collection on a transferred employee.

Timekeeping information: Time and attendance records, and leave records.

This system may also contain correspondence, documents and other information required to administer payroll, leave, and related functions.

RECORD SOURCE CATEGORIES:

Information is obtained from individuals on whom the records are maintained, official personnel records of individuals on whom the records are maintained, supervisors, timekeepers, previous employers, the Internal Revenue Service and state tax agencies, the Department of the Treasury, other Federal agencies, courts, state child support agencies, employing agency accounting offices, and third-party benefit providers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information maintained in this system may be disclosed to authorized entities outside NIGC for purposes determined to be relevant and necessary as a routine use pursuant to 5 U.S.C. 552a(b)(3) as follows:

1. To the Department of Justice (DOJ), including Offices of the U.S. Attorneys, or other Federal agency conducting litigation or in proceedings before any court, adjudicative, or administrative body, when it is relevant or necessary to the litigation and one of the following is a party to the litigation or has an interest in such litigation:

(a) NIGC;

(b) Any other Federal agency appearing before the Office of Hearings and Appeals;

(c) Any NIGC employee or former employee acting in his or her official capacity;

(d) Any NIGC employee or former employee acting in his or her individual capacity when NIGC or DOJ has agreed to represent that employee; or

(e) The United States Government or any agency thereof, when DOJ determines that NIGC is likely to be affected by the proceeding.

2. To the Department of the Interior or other Federal agency as required for payroll purposes, for preparation of payroll and other checks and electronic funds transfers to Federal, State, and local government agencies, non-governmental organizations, and individuals.

3. To the Department of the Treasury, Internal Revenue Service, and state and local tax authorities for which an employee is or was subject to tax regardless of whether tax is or was withheld in accordance with Treasury Fiscal Requirements, as required.

4. To the Office of Personnel Management or its contractors in connection with programs administered by that office, including, but not limited to, the Federal Long Term Care Insurance Program, the Federal Dental and Vision Insurance Program, the Flexible Spending Accounts for Federal Employees Program, and the electronic Human Resources Information Program.

5. To another Federal agency to which an employee has transferred.

6. To any criminal, civil, or regulatory law enforcement authority (whether Federal, state, territorial, local, tribal or foreign) when a record, either alone or in conjunction with other information, indicates a violation or potential violation of law—criminal, civil, or regulatory in nature.

7. To a congressional office in response to a written inquiry that an individual covered by the system, or the heir of such individual if the covered individual is deceased, has made to the office.

8. To Federal, State, local or tribal agencies where necessary to enable the employee's agency to obtain information relevant to the hiring or retention of that employee, or the issuance of a security clearance, contract, license, grant or other benefit.

9. To appropriate Federal and state agencies to provide reports including data on unemployment insurance.

10. To the Social Security Administration to credit the employee or emergency worker account for Old-Age, Survivors, and Disability Insurance (OASDI) and Medicare deductions.

11. To insurance carriers to report employee election information and withholdings for health insurance.

12. To charitable institutions when an employee designates an institution to receive contributions through salary deduction.

13. To the Department of the Treasury, Internal Revenue Service, or to another Federal agency or its contractor, to disclose debtor information solely to aggregate information for the Internal Revenue Service to collect debts owed to the Federal Government through the offset of tax refunds.

14. To any creditor Federal agency seeking assistance for the purpose of that agency implementing administrative or salary offset procedures in the collection of unpaid financial obligations owed the United States Government from an individual.

15. To any Federal agency where the individual debtor is employed or receiving some form of remuneration for the purpose of enabling that agency to collect debts on the employee's behalf by administrative or salary offset procedures under the provisions of the Debt Collection Act of 1982.

16. To the Department of the Treasury, Internal Revenue Service, and state and local authorities for the purpose of locating a debtor to collect a claim against the debtor.

17. To the Federal Retirement Thrift Investment Board's record keeper, which administers the Thrift Savings Plan, to report deductions, contributions, and loan payments.

18. To the Office of Child Support Enforcement, Administration for Children and Families, Department of Health and Human Services, for the purposes of locating individuals to establish paternity; establishing and modifying orders of child support; identifying sources of income; and for other child support enforcement actions as required by the Personal Responsibility and Work Opportunity Reconciliation Act of 1996.

19. To an expert, consultant, or contractor (including employees of the contractor) of NIGC that performs services requiring access to these records on NIGC's behalf to carry out the purposes of the system, including employment verifications, unemployment claims, processing services, leave and earning statements, and 1095-C Affordable Care Act statements.

20. To the Office of Personnel Management Employee Express, which is an employee self-service system, to initiate personnel and payroll actions and to obtain payroll information.

21. To the Department of Labor for processing claims for employees injured on the job or claiming occupational illness.

22. To Federal agencies and organizations to support interfaces with other systems operated by the Federal agencies for which the employee is employed or located for the purpose of avoiding duplication, increasing data integrity and streamlining government operations.

23. To another Federal agency to provide information needed in the performance of official duties related to reconciling or reconstructing data files or to enable that agency to respond to an inquiry by the individual to whom the record pertains.

24. To the National Archives and Records Administration (NARA) to conduct records management inspections under the authority of 44 U.S.C. 2904 and 2906.

25. To the Office of Management and Budget (OMB) during the coordination and clearance process in connection with legislative affairs as mandated by OMB Circular A-19.

26. To Federal, state, territorial, local, tribal, or foreign agencies that have requested information relevant or necessary to the hiring, firing or retention of an employee or contractor, regarding the issuance of a security clearance, license, contract, grant or other benefit.

27. To state, territorial, and local governments, and tribal organizations to provide information needed in response to court order and/or discovery purposes related to litigation, when the disclosure is compatible with the purpose for which the records were compiled.

28. To the Department of the Treasury to recover debts owed to the United States.

29. To the news media and the public, with the approval of the Public Affairs Officer in consultation with the General Counsel and the Senior Agency Official for Privacy, where there exists a legitimate public interest in the disclosure of the information or when disclosure is necessary to preserve confidence in the integrity of NIGC or is necessary to demonstrate the accountability of NIGC's officers, employees, or individuals covered by the system, except to the extent it is determined that release of the specific information in the context of a particular case would constitute an unwarranted invasion of personal privacy.

30. To the Executive Office of the President in response to an inquiry from that office made at the request of the subject of a record or a third party on that person's behalf, or for a purpose compatible with the reason for which the records are collected or maintained.

31. To the Office of Personnel Management, the Merit System Protection Board, Federal Labor Relations Authority, or the Equal Employment Opportunity Commission when requested in the performance of their authorized duties.

32. To state offices of unemployment compensation to assist in processing an individual's unemployment, survivor annuity, or health benefit claim, or for records reconciliation purposes.

33. To Federal Employees' Group Life Insurance or Health Benefits carriers in connection with survivor annuity or health benefits claims or records reconciliations.

34. To any source from which additional information is requested by NIGC relevant to a NIGC determination concerning an individual's pay, leave, or travel expenses, to the extent necessary to identify the individual, inform the source of the purpose(s) of the request, and to identify the type of information requested.

35. To the Social Security Administration and the Department of the Treasury to disclose pay data on an annual basis, and as necessary to execute their statutory responsibilities for the effective administration of benefits programs, payroll and taxes.

36. To a Federal agency or in response to a congressional inquiry when additional or statistical information is requested relevant to a Federal benefit or program, such as the NIGC Transit Fare Subsidy Program.

37. To the Department of Health and Human Services for the purpose of providing information on new hires and quarterly wages as required under the Personal Responsibility and Work Opportunity Reconciliation Act of 1996.

38. To appropriate agencies, entities, and persons when:

(a) NIGC suspects or has confirmed that there has been a breach of the system of records;

(b) NIGC has determined that as a result of the suspected or confirmed breach there is a risk of harm to individuals, NIGC (including its information systems, programs, and operations), the Federal Government, or national security; and

(c) The disclosure made to such agencies, entities, and persons is reasonably necessary to assist in connection with NIGC's efforts to respond to the suspected or confirmed breach or to prevent, minimize, or remedy such harm.

39. To another Federal agency or Federal entity, when NIGC determines that information from this system of records is reasonably necessary to assist the recipient agency or entity in:

(a) Responding to a suspected or confirmed breach; or

(b) Preventing, minimizing, or remedying the risk of harm to individuals, the recipient agency or entity (including its information systems, programs, and operations), the Federal Government, or national security, resulting from a suspected or confirmed breach.

40. To an agency or organization for the purpose of performing audit or oversight operations as authorized by law, but only such information as is necessary and relevant to such audit or oversight function.

41. To a court, magistrate, or administrative tribunal, including disclosures to opposing counsel in the course of discovery, pursuant to appropriate court order or other judicial process in the course of criminal, civil or administrative litigation.

42. In an appropriate proceeding before a court, grand jury, or administrative or adjudicative body, when the Department of Justice determines that the records are arguably relevant to the proceeding; or in an appropriate proceeding before an administrative or adjudicative body when the adjudicator determines the records to be relevant to the proceeding.

43. To the Department of the Interior or other Federal agency operating as a shared service provider under a cross-servicing agreement with NIGC for purposes relating to the processing and maintenance of these records, to reconstitute the system in case of system failure or helpdesk request, and to ensure the integrity and effective management of the system of records.

POLICIES AND PRACTICES FOR STORAGE OF RECORDS:

Records are maintained in manual, microfilm, microfiche, electronic, imaged and computer printout form. Original input documents are stored in standard office filing equipment and/or as imaged documents on magnetic media at all locations which prepare and provide input documents and information for data processing. Paper records are maintained in file folders stored within locking filing cabinets or locked rooms in secured facilities with controlled access. Electronic records are stored in computers, removable drives, storage devices, electronic databases, and other electronic media.

POLICIES AND PRACTICES FOR RETRIEVAL OF RECORDS:

Records may be retrieved by employee name, SSN, TIN, ECI, birth date, organizational code, or assigned person number.

POLICIES AND PRACTICES FOR RETENTION AND DISPOSAL OF RECORDS:

Records are maintained in accordance with General Records Schedule (GRS) 1.0 “Finance” and GRS 2.0 “Human Resources.” The records are temporary records. Paper records are disposed of by shredding or pulping, and records maintained on electronic media are degaussed or erased in accordance with the applicable records retention schedule and NARA guidelines.

ADMINISTRATIVE, TECHNICAL, AND PHYSICAL SAFEGUARDS:

Access to records in the system is limited to authorized personnel who have a need to access the records in the performance of their official duties, and each person's access is restricted to only the functions and data necessary to perform that person's job responsibilities. Paper or micro format records are maintained in locked file cabinets in secured rooms under the control of authorized personnel. Computer servers on which electronic records are stored are located in secured facilities with physical, technical and administrative levels of security to prevent unauthorized access to the information network and information assets. Security controls include encryption, firewalls, audit logs, and network system security monitoring. Electronic data is protected through user identification, passwords, database permissions and software controls. System administrators and authorized users are trained and required to follow established internal security protocols and must complete all security, privacy, and records management training, and sign system Rules of Behavior. Information technology systems adhere to: National Institute of Standards and Technology privacy and security; the Paperwork Reduction Act of 1995, Public Law 104-13; the Federal Information Security Modernization Act of 2014, Public Law 113-283, as codified at 44 U.S.C. 3551, et seq.; and the Federal Information Processing Standard 199, Standards for Security Categorization of Federal Information and Information Systems.

RECORD ACCESS PROCEDURES:

Requests must meet the requirements of NIGC regulations that implement the Privacy Act of 1974, at 25 CFR part 515; specifically, 25 CFR 515.3.

CONTESTING RECORD PROCEDURES:

Requests for correction or amendment must identify the record to be changed and the corrective action sought. Such requests must satisfy the NIGC Privacy Act procedures in NIGC's Privacy Act regulations at 25 CFR part 515, particularly 25 CFR 515.6.

NOTIFICATION PROCEDURES:

Any individual who wants to know whether this system of records contains a record about themselves, can make a request pursuant to the NIGC Privacy Act regulations at 25 CFR 515.3.

EXEMPTIONS PROMULGATED FOR THE SYSTEM:

None.

HISTORY:

None.

E. Sequoyah Simermeyer,
Chairman, National Indian Gaming Commission.

[FR Doc. 2023-04670 Filed 3-8-23; 8:45 am]

BILLING CODE 7565-01-P